DEPARTMENT OF COMMERCE

International Trade Administration

[A-557-824]

Boltless Steel Shelving Units Prepackaged for Sale From Malaysia: Final Affirmative Determination of Sales at Less-Than-Fair Value

AGENCY: Enforcement and Compliance, International Trade Administration, Department of Commerce.

SUMMARY: The U.S. Department of Commerce (Commerce) determines that imports of boltless steel shelving units prepackaged for sale (boltless steel shelving) from Malaysia are being, or are likely to be, sold in the United States at less-than-fair value (LTFV). The period of investigation is April 1, 2022, through March 31, 2023.

DATES: Applicable April 19, 2024.

FOR FURTHER INFORMATION CONTACT: Samuel Frost, AD/CVD Operations, Office V, Enforcement and Compliance, International Trade Administration, U.S. Department of Commerce, 1401 Constitution Avenue NW, Washington, DC 20230; telephone: (202) 482-8180.

SUPPLEMENTARY INFORMATION:

Background

On November 29, 2023, Commerce published in the Federal Register its preliminary affirmative determination in this investigation, in which we also postponed the final determination until April 12, 2024.¹ We invited parties to comment on the Preliminary Determination.

¹ See Boltless Steel Shelving Units Prepackaged for Sale from Malaysia: Preliminary Affirmative Determination of Sales at Less Than Fair Value, Postponement of Final Determination, and Extension of Provisional Measures, 88 FR 83386 (November 29, 2023) (Preliminary Determination), and accompanying Preliminary Decision Memorandum.

A summary of the events that occurred since Commerce published the Preliminary Determination, as well as a full discussion of the issues raised by parties for this final determination, may be found in the Issues and Decision Memorandum.² The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

² See Memorandum, “Decision Memorandum for the Final Affirmative Determination of Sales at Less-Than-Fair-Value Boltless Steel Shelving Units Prepackaged for Sale from Malaysia,” dated concurrently with, and hereby adopted by, this notice (Issues and Decision Memorandum).

Scope of the Investigation

The product covered by this investigation is boltless steel shelving from Malaysia. For a complete description of the scope of this investigation, see Appendix I.

Scope Comments

During the course of this investigation, Commerce received scope comments from interested parties. Commerce issued a Preliminary Scope Decision Memorandum to address these comments and set aside a period of time for parties to address scope issues in scope-specific case and rebuttal briefs.³ We received comments from interested parties on the Preliminary Scope Decision Memorandum, which we addressed in the Final Scope Decision Memorandum.⁴ We did not make any changes to the scope of the investigation from the scope published in the Preliminary Determination.

³ See Memorandum, “Antidumping Duty Investigations of Boltless Steel Shelving Units Prepackaged for Sale from India, Malaysia, Taiwan, Thailand, and the Socialist Republic of Vietnam: Preliminary Scope Decision Memorandum,” dated November 13, 2023 (Preliminary Scope Decision Memorandum).

⁴ See Memorandum, “Antidumping Duty Investigation of Boltless Steel Shelving Units Prepackaged for Sale from Malaysia, Taiwan, Thailand, and the Socialist Republic of Vietnam: Final Scope Decision Memorandum,” dated April 12, 2024 (Final Scope Decision Memorandum).

Verification

In the Preliminary Determination, Commerce stated that it intended to verify the information relied upon in making its final determination.⁵ However, due to circumstances discussed in the Issues and Decision Memorandum, Commerce declined to conduct any verifications in this investigation.⁶

⁵ See Preliminary Determination, 88 FR at 83388.

⁶ See Issues and Decision Memorandum at Comment 1.

Analysis of Comments Received

All issues raised in the case and rebuttal briefs by interested parties in this investigation are addressed in the Issues and Decision Memorandum. A list of the issues raised is attached to this notice as Appendix II.

Changes Since the Preliminary Determination

We have made certain changes since the Preliminary Determination. For a discussion of these changes, see the Issues and Decision Memorandum.

Use of Adverse Facts Available

As discussed in the Preliminary Determination, Commerce assigned to certain mandatory respondents in this investigation, Nanjing Chervon Industry Co., Ltd. (Nanjing Chervon) and Wuxi Bote Electrical Apparatus Co., Ltd. (Wuxi Bote), estimated weighted-average dumping margins on the basis of adverse facts available (AFA), pursuant to sections 776(a) and (b) of the Tariff Act of 1930, as amended (the Act).⁷ There is no new information on the record that would cause us to revisit our decision in the Preliminary Determination. Accordingly, for this final determination, we continue to find that the application of AFA pursuant to sections 776(a) and (b) of the Act is warranted with respect to Nanjing Chervon and Wuxi Bote.

⁷ See Preliminary Determination, 88 FR at 83387.

Moreover, in the Preliminary Determination, Commerce calculated an estimated weighted-average dumping margin of zero for Eonmetall Industries Sdn. Bhd. (EMI).⁸ However, following the Preliminary Determination, we determined that information submitted by EMI in this investigation is unverifiable.⁹ Therefore, as explained in the Issues and Decision Memorandum, we find that EMI failed to provide verifiable information and did not cooperate to the best of its ability in this proceeding. As such, for this final determination, we determine it is also appropriate to apply a dumping margin based on AFA to EMI, in accordance with sections 776(a) and (b) of the Act. For further discussion, see the Issues and Decision Memorandum.

⁸ Id.

⁹ See Memorandum, “Verification Cancellation and Establishment of Briefing Schedule,” dated January 22, 2024.

All-Others Rate

Section 735(c)(5)(A) of the Act provides that the estimated weighted-average dumping margin for all other producers and exporters not individually investigated shall be equal to the weighted average of the estimated weighted-average dumping margins established for exporters and producers individually investigated excluding rates that are zero, de minimis, or determined entirely under section 776 of the Act.

Pursuant to section 735(c)(5)(B) of the Act, if the estimated weighted-average dumping margins established for all exporters and producers individually examined are zero, de minimis or determined based entirely on facts otherwise available, Commerce may use any reasonable method to establish the estimated weighted-average dumping margin for all other producers or exporters. Consequently, pursuant to section 735(c)(5)(B) of the Act, Commerce's normal practice under these circumstances has been to calculate the all-others rate as a simple average of the alleged dumping margins(s) from the petition.¹⁰ In the Petition, the petitioner provided two dumping margins, 35.45 percent and 81.12 percent.¹¹ Therefore, in the absence of any estimated weighted-average dumping margin on the record of this investigation that is not zero, de minimis, or determined entirely under section 776 of the Act, we are assigning the simple average of the two dumping margins in the Initiation Checklist, i.e., 58.29 percent, as the all-others rate.¹²

¹⁰ See, e.g., Notice of Preliminary Determination of Sales at Less Than Fair Value: Sodium Nitrite from the Federal Republic of Germany, 73 FR 21909, 21912 (April 23, 2008), unchanged in Notice of Final Determination of Sales at Less Than Fair Value: Sodium Nitrite from the Federal Republic of Germany, 73 FR 38986, 38987 (July 8, 2008), and accompanying Issues and Decision Memorandum at Comment 2; see also Notice of Final Determination of Sales at Less Than Fair Value: Raw Flexible Magnets from Taiwan, 73 FR 39673, 39674 (July 10, 2008); and Steel Threaded Rod from Thailand: Preliminary Determination of Sales at Less Than Fair Value and Affirmative Preliminary Determination of Critical Circumstances, 78 FR 79670, 79671 (December 31, 2013), unchanged in Steel Threaded Rod from Thailand: Final Determination of Sales at Less Than Fair Value and Affirmative Final Determination of Critical Circumstances, 79 FR 14476, 14477 (March 14, 2014).

¹¹ See Edsal Manufacturing Co., Inc. (Petitioner)'s Letter, “Boltless Steel Shelving Units Prepackaged for Sale from India, Malaysia, Taiwan, Thailand, and Vietnam—Petition for the Imposition of Antidumping Duties” dated April 25, 2023 (Petition) at Volume III; see also Petitioner's Letter, “Boltless Steel Shelving Units Prepackaged for Sale from Malaysia—Petitioner's Response to the Department's Second Supplemental Questionnaire Regarding Volume III of the Petition for the Imposition of Antidumping Duties on Imports from Malaysia,” dated May 8, 2023.

¹² See Checklist, “Antidumping Duty Investigation Initiation Checklist: Boltless Steel Shelving Units Prepackaged for Sale from Malaysia,” dated May 15, 2023 (Initiation Checklist), at 7.

Final Determination

The final estimated dumping margins are as follows:

Producer/exporter | Estimated dumping margins (percent)
Eonmetall Industries Sdn. Bhd | * 81.12
Nanjing Chervon Industry Co., Ltd | * 81.12
Wuxi Bote Electrical Apparatus Co., Ltd | * 81.12
All Others | 58.29
* Rate based on facts available with adverse inferences.

Disclosure

Normally, Commerce will disclose to the parties in a proceeding the calculations performed in connection with a final determination within five days of any public announcement or, if there is no public announcement, within five days of the date of publication of the notice of final determination in the Federal Register, in accordance with 19 CFR 351.224(b). However, because Commerce relied solely on the application of AFA for the mandatory respondents in this investigation, there are no calculations to disclose for this final determination.

Suspension of Liquidation

In accordance with section 735(c)(1)(B) of the Act, Commerce will instruct U.S. Customs and Border Protection (CBP) to continue to suspend liquidation of subject merchandise as described in Appendix I of this notice, which were entered, or withdrawn from warehouse, for consumption, on or after November 29, 2023, the date of publication of the Preliminary Determination in the Federal Register, except for those entries of subject merchandise produced and exported by EMI.

In accordance with section 735(c)(1)(B) of the Act, for EMI, Commerce will direct CBP to suspend liquidation of all subject merchandise as described in Appendix I of this notice, which were entered, or withdrawn from warehouse, for consumption, on or after the date of publication of this notice in the Federal Register.¹³

¹³ For additional discussion of this issue, see the Issues and Decision Memorandum at Comment 2.

Pursuant to section 735(c)(1)(B)(ii) of the Act and 19 CFR 351.210(d), Commerce will instruct CBP to require a cash deposit equal to the estimated weighted-average dumping margin or the estimated all-others rate, as follows: (1) the cash deposit rate for the respondents listed above will be equal to the company-specific estimated dumping margins determined in this final determination; (2) if the exporter is not a respondent identified above but the producer is, then the cash deposit rate will be equal to the company-specific estimated dumping margin established for that producer of the subject merchandise; and (3) the cash deposit rate for all other producers and exporters will be equal to the all-others estimated dumping margin.

These suspension of liquidation instructions will remain in effect until further notice.

U.S. International Trade Commission Notification

In accordance with section 735(d) of the Act, we will notify the U.S. International Trade Commission (ITC) of our final affirmative determination of sales at LTFV. Because the final determination in this proceeding is affirmative, in accordance with section 735(b)(2) of the Act, the ITC will make its final determination as to whether the domestic industry in the United States is materially injured, or threatened with material injury, by reason of imports of boltless steel shelving from Malaysia no later than 45 days after this final determination. If the ITC determines that material injury or threat of material injury does not exist, the proceeding will be terminated and all cash deposits will be refunded or canceled, and suspension of liquidation will be lifted. If the ITC determines that such injury does exist, Commerce will issue an antidumping duty order directing CBP to assess, upon further instruction by Commerce, antidumping duties on all imports of the subject merchandise that are entered, or withdrawn from warehouse, for consumption on or after the effective date of the suspension of liquidation, as discussed above in the “Suspension of Liquidation” section.

Administrative Protective Order

This notice serves as the only reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This final determination and notice are issued and published in accordance with sections 735(d) and 777(i) of the Act, and 19 CFR 351.210(c).

Dated: April 12, 2024.
Ryan Majerus,
Deputy Assistant Secretary for Policy and Negotiations, performing the non-exclusive functions and duties of the Assistant Secretary for Enforcement and Compliance.

Appendix I—Scope of the Investigation

The scope of this investigation covers boltless steel shelving units prepackaged for sale, with or without decks (boltless steel shelving). The term “prepackaged for sale” means that, at a minimum, the steel vertical supports (i.e., uprights and posts) and steel horizontal supports (i.e., beams, braces) necessary to assemble a completed shelving unit (with or without decks) are packaged together for ultimate purchase by the end-user. The scope also includes add-on kits. Add-on kits include, but are not limited to, kits that allow the end-user to add an extension shelving unit onto an existing boltless steel shelving unit such that the extension and the original unit will share common frame elements (e.g., two posts). The term “boltless” refers to steel shelving in which the vertical and horizontal supports forming the frame are assembled primarily without the use of nuts and bolts, or screws. The vertical and horizontal support members for boltless steel shelving are assembled by methods such as, but not limited to, fitting a rivet, punched or cut tab, or other similar connector on one support into a hole, slot or similar receptacle on another support. The supports lock together to form the frame for the shelving unit, and provide the structural integrity of the shelving unit separate from the inclusion of any decking. The incidental use of nuts and bolts, or screws to add accessories, wall anchors, tie-bars or shelf supports does not remove the product from scope. Boltless steel shelving units may also come packaged as partially assembled, such as when two upright supports are welded together with front-to-back supports, or are otherwise connected, to form an end unit for the frame. The boltless steel shelving covered by this investigation may be commonly described as rivet shelving, welded frame shelving, slot and tab shelving, and punched rivet (quasi-rivet) shelving as well as by other trade names. The term “deck” refers to the shelf that sits on or fits into the horizontal supports (beams or braces) to provide the horizontal storage surface of the shelving unit.

The scope includes all boltless steel shelving meeting the description above, regardless of: (1) vertical support or post type (including but not limited to open post, closed post and tubing); (2) horizontal support or beam/brace profile (including but not limited to Z-beam, C-beam, L-beam, step beam and cargo rack); (3) number of supports; (4) surface coating (including but not limited to paint, epoxy, powder coating, zinc and other metallic coating); (5) number of levels; (6) weight capacity; (7) shape (including but not limited to rectangular, square, and corner units); (8) decking material (including but not limited to wire decking, particle board, laminated board or no deck at all); or (9) the boltless method by which vertical and horizontal supports connect (including but not limited to keyhole and rivet, slot and tab, welded frame, punched rivet and clip).

Specifically excluded from the scope are:

• wall-mounted shelving, defined as shelving that is hung on the wall and does not stand on, or transfer load to, the floor. The addition of a wall bracket or other device to attach otherwise freestanding subject merchandise to a wall does not meet the terms of this exclusion;

• wire shelving units, which consist of shelves made from wire that incorporates both a wire deck and wire horizontal supports (taking the place of the horizontal beams and braces) into a single piece with tubular collars that slide over the posts and onto plastic sleeves snapped on the posts to create the finished shelving unit;

• bulk-packed parts or components of boltless steel shelving units; and

• made-to-order shelving systems.

Subject boltless steel shelving enters the United States through Harmonized Tariff Schedule of the United States (HTSUS) statistical subheading 9403.20.0075. While the HTSUS subheading is provided for convenience and customs purposes, the written description of the scope of this investigation is dispositive.

Appendix II—List of Topics Discussed in the Issues and Decision Memorandum

I. Summary

II. Background

III. Changes From the Preliminary Determination

IV. Use of Facts Otherwise Available and Adverse Inference

V. Discussion of the Issues

Comment 1: Whether Commerce's Post-Preliminary Decision to Cancel Verification and Apply Adverse Facts Available (AFA) to EMI was Appropriate

Comment 2: Whether Commerce Should Order Suspension of Liquidation of EMI's Entries Dating Back to the Preliminary Determination

VI. Recommendation

[FR Doc. 2024-08374 Filed 4-18-24; 8:45 am]

BILLING CODE 3510-DS-P